DEPARTMENT OF THE INTERIOR

Bureau of Land Management

[OR-092-04-5870-EU; GP4-0168]

Direct Sale of Public Lands, OR 55502

AGENCY: Bureau of Land Management (BLM), Interior.

ACTION: Notice of realty action.

SUMMARY: A 0.45 acre parcel of public land in Lane County, Oregon, is being considered for direct sale to James L. Bean to resolve an inadvertent occupancy trespass. The parcel is the minimum size possible to resolve the encroachment.

DATES: Submit comments on or before November 22, 2004.

ADDRESSES: Address all written comments concerning this notice to Emily Rice, Field Manager, Upper Willamette Field Office, PO Box 10226, Eugene, Oregon 97440.

FOR FURTHER INFORMATION CONTACT: Cheryl Adcock, Realty Specialist at (541) 683-6145.

SUPPLEMENTARY INFORMATION: The following described public land has been examined and found suitable for sale under Sections 203 and 209 of the Federal Land Policy and Management Act of 1976 (43 U.S.C. 1713 and 1719). The parcel proposed for sale is identified as follows:

Willamette Meridian, Oregon,

T. 21 S., R. 2 W.,

Sec. 1, lot 9.

The area described contains 0.45 acre, more or less, in Lane County, Oregon. This parcel will be sold at no less than the appraised market value which has been determined to be $10,000.00. In accordance with 43 CFR 2711.3-3(a) (5) direct sale procedures are appropriate since the land has been inadvertently occupied and utilized for many years as a portion of a residential yard. The Eugene District Resource Management Plan as amended, August 6, 1998, identifies “unintentional occupancy trespass sites discovered in the future * * *” as suitable for disposal.

James L. Bean will be allowed 30 days from receipt of a written offer to submit a deposit of at least 10 percent of the appraised market value of the parcel and within 180 days thereafter to submit the balance.

The following rights, reservations, and conditions will be included in the Deed conveying the land:

A reservation to the United States for a right-of-way for ditches and canals constructed by the authority of the United States. Act of August 30, 1890 (43 U.S.C. 945).

The mineral interests being offered for conveyance have no known mineral value. Acceptance of the direct sale offer constitutes an application for conveyance of the mineral interests also being offered under the authority of Section 209(b) of the Federal Land Policy and Management Act of 1976 (43 U.S.C. 1719). In addition to the full purchase price, a nonrefundable fee of $50 will be required for purchase of the mineral interests to be conveyed simultaneously with the sale of the land.

The land described is segregated from appropriation under the public land laws, including the mining laws, pending disposition of this action or 270 days from the date of publication of this notice, whichever occurs first.

Detailed information concerning this land sale, including the reservations, sale procedures and conditions, planning and environmental documents, appraisal report, and mineral report is available for review at the Eugene District Office, Bureau of Land Management, 2890 Chad Drive, Eugene, Oregon 97470.

In the absence of any objections, this proposal will become the final determination of the Department of the Interior.

Comments, including names, street addresses, and other contact information of respondents, will be available for public review. Individual respondents may request confidentiality. If you wish to request that the BLM consider withholding your name, street address and other contact information, e.g., Internet address, FAX or phone number, from public review or from disclosure under the Freedom of Information Act, you must state this prominently at the beginning of your written comment. The BLM will honor requests for confidentiality on a case-by-case basis to the extent allowed by law. The BLM will make available for public inspection in their entirety all submissions from organizations and businesses, and from individuals identifying themselves as representatives or officials of organizations or businesses.

(Authority: 43 CFR 2711.1-2 (a)).
Dated: April 21, 2004.
Emily Rice,
Field Manager, Upper Willamette Field Office.

[FR Doc. 04-22557 Filed 10-6-04; 8:45 am]

BILLING CODE 4310-33-Pp